ENVIRONMENTAL PROTECTION AGENCY

[FRL-8524-5]

Meeting of the Total Coliform Rule Distribution System Advisory Committee—Notice of Public Meeting

AGENCY: Environmental Protection Agency (EPA).

ACTION: Notice.

SUMMARY: Under Section 10(a)(2) of the Federal Advisory Committee Act, the United States Environmental Protection Agency (EPA) is giving notice of a meeting of the Total Coliform Rule Distribution System Advisory Committee (TCRDSAC). The purpose of this meeting is to discuss the Total Coliform Rule (TCR) revision and information about distribution systems issues that may impact water quality.

The TCRDSAC advises and makes recommendations to the Agency on revisions to the TCR, and on what information should be collected, research conducted, and/or risk management strategies evaluated to better inform distribution system contaminant occurrence and associated public health risks.

Topics to be discussed in the meeting include possible options for revising the Total Coliform Rule, performance of analytical methods, EPA's plans for compliance with the Small Business Regulatory Enforcement Fairness Act, and topics for upcoming TCRDSAC meetings.

DATES: The public meeting will be held on Wednesday, February 20, 2008 (8:30 a.m. to 6 p.m., Eastern Time (ET)) and Thursday, February 21, 2008 (8 a.m. to 3 p.m., ET). Attendees should register for the meeting by calling Kate Zimmer at (202) 965-6387 or by e-mail to kzimmer@resolv.org no later than February 15, 2008.

ADDRESSES: The meeting will be held at RESOLVE, 1255 Twenty-Third St., NW., Suite 275, Washington, DC 20037.

FOR FURTHER INFORMATION CONTACT: For general information, contact Kate Zimmer of RESOLVE at (202) 965-6387. For technical inquiries, contact Ken Rotert (rotert.kenneth@epa.gov, (202) 564-5280), Standards and Risk Management Division, Office of Ground Water and Drinking Water (MC 4607M), Environmental Protection Agency, 1200 Pennsylvania Ave., NW., Washington, DC 20460; FAX number: (202) 564-3767.

SUPPLEMENTARY INFORMATION: The meeting is open to the public. The Committee encourages the public's input and will take public comment starting at 5:30 p.m. on February 20, 2008, for this purpose. It is preferred that only one person present the statement on behalf of a group or organization. To ensure adequate time for public involvement, individuals interested in presenting an oral statement may notify Crystal Rodgers-Jenkins, the Designated Federal Officer, by telephone at (202) 564-5275, no later than February 15, 2008. Any person who wishes to file a written statement can do so before or after a Committee meeting. Written statements received by February 15, 2008, will be distributed to all members before any final discussion or vote is completed. Any statements received on February 18, 2008, or after the meeting will become part of the permanent meeting file and will be forwarded to the members for their information.

Special Accommodations

For information on access or accommodations for individuals with disabilities, please contact Crystal Rodgers-Jenkins at (202) 564-5275 or by e-mail at rodgers-jenkins.crystal@ epa.gov. Please allow at least 10 days prior to the meeting to give EPA as much time as possible to process your request.

Dated: January 29, 2008.
Cynthia C. Dougherty,
Director, Office of Ground Water and Drinking Water.

[FR Doc. E8-1954 Filed 2-1-08; 8:45 am]

BILLING CODE 6560-50-P